DEPARTMENT OF HOUSING AND URBAN DEVELOPMENT

[Docket No. FR-5200-C-01A2]

Notice of HUD's Fiscal Year (FY) 2008 General Section and FY2008 SuperNOFA for HUD's Discretionary Grant Programs; Correction

AGENCY: Office of the Secretary, HUD.

ACTION: Super Notice of Funding Availability (SuperNOFA) for HUD Discretionary Grant Programs; correction.

SUMMARY: On March 19, 2008, HUD published its Notice of Fiscal Year (FY) 2008 Notice of Funding Availability (NOFA); Policy Requirements and General Section to HUD's FY2008 NOFAs for Discretionary Programs (General Section). On May 12, 2008, HUD published its FY2008 SuperNOFA, for HUD's Discretionary Grant Programs. This document corrects the hourly rate for consultants as published in the March 19, 2008, General Section. This document also makes corrections or clarifications to the following sections of the May 12, 2008, SuperNOFA: Appendix A of the Introduction to the SuperNOFA, the Lead-Based Paint Hazard Control Grant Program, Lead Hazard Reduction Demonstration Grant Program, and Operation Lead Elimination Action Program; the Lead Outreach Grant Program; the Housing Choice Voucher Family Self-Sufficiency Program; the Resident Opportunity and Self-Sufficiency (ROSS) Service Coordinators Program; and the Self-Help Homeownership Opportunity Program (SHOP). Finally, this notice provides notice to all applicants regarding a technical issue with the Grants.gov SF-424 form and provides guidance to address the issue.

DATES: The application submission dates for the Lead-Based Paint Hazard Control Grant Program, Lead Hazard Reduction Demonstration Grant Program, and Operation Lead Elimination Action Program NOFA, the Lead Outreach Grant Program NOFA, and the Resident Opportunity and Self-Sufficiency (ROSS) Service Coordinators Program NOFA remain as published in the Federal Register on May 12, 2008. The deadline date for the Housing Choice Voucher Program has been moved to July 16, 2008. The deadline date for the Self-Help Homeownership Opportunity Program (SHOP) has been moved to July 18, 2008.

FOR FURTHER INFORMATION CONTACT: Questions regarding the General Section of March 19, 2008, should be directed to the NOFA Information Center between the hours of 10 a.m. and 6:30 p.m. Eastern Time at (800) HUD-8929. Hearing-impaired persons may call 800-HUD-2209. For the programs listed in this notice, please contact the office or individual listed under section VII of the applicable program sections of the SuperNOFA, published on May 12, 2008.

SUPPLEMENTARY INFORMATION: On March 19, 2008 (73 FR 14882), HUD published its Notice of Fiscal Year (FY) 2008 Notice of Funding Availability (NOFA); Policy Requirements and General Section to HUD's FY2008 NOFAs for Discretionary Programs (General Section). Early publication of the General Section was intended to provide prospective applicants additional time to become familiar with and address those provisions in the General Section that constitute part of almost every application. On May 12, 2008 (73 FR 27032), HUD published its Notice of HUD's Fiscal Year (FY) 2008 SuperNOFA for HUD's Discretionary Grant Programs. The FY 2008 SuperNOFA announced the availability of approximately $1.02 billion in HUD assistance. This notice published in today's Federal Register corrects the hourly rate for consultants as published in the March 19, 2008, General Section. This notice also makes technical corrections to the following sections of the May 12, 2008, SuperNOFA: Appendix A of the Introduction to the SuperNOFA; the Lead-Based Paint Hazard Control Grant Program, Lead Hazard Reduction Demonstration Grant Program, and Operation Lead Elimination Action Program; the Lead Outreach Grant Program; the Housing Choice Voucher Family Self-Sufficiency Program; the Resident Opportunity and Self-Sufficiency (ROSS) Service Coordinators Program; and the Self-Help Homeownership Opportunity Program (SHOP). This notice also provides notice to all applicants regarding a technical issue with the Grants.gov SF-424 form in the funding opportunity Application Package and provides guidance to address the issue.

I. Correction of General Section

On March 19, 2008 (73 FR 14882), HUD published its General Section. At page 14887, section III.C.4.l., second column, HUD stated that the hourly wage for the equivalent of General Schedule 15, Step 10 base pay rate is $57.90. The correct hourly rate for the equivalent of General Schedule 15, Step 10 base pay rate is actually $59.42.

Accordingly, at page 14887, section III.C.4.l., second column, in the March 19, 2008, Notice of HUD's FY2008, Notice of Funding Availability (NOFA), Policy Requirements and General Section to the SuperNOFA for HUD's Discretionary Grant Programs, the following correction is made:

1. Salary Limitation for Consultants. FY2008 funds may not be used to pay or to provide reimbursement for payment of the salary of a consultant, whether retained by the federal government or the grantee, at a rate more than the equivalent of General Schedule 15, Step 10 base pay rate for which the annual rate for FY2008 is $124,010. The hourly rate is $59.42.

II. Summary of Technical Corrections

On May 12, 2008, HUD published its FY2008 SuperNOFA. Today's publication corrects certain sections of the SuperNOFA. Summaries of the technical corrections made by this document follow. The page number shown in brackets identifies where the individual funding availability announcement that is being corrected can be found in the May 12, 2008, SuperNOFA. The technical correction described in today's Federal Register will also be reflected in the application instructions located on Grants.gov/Apply. Applicants who have submitted their applications prior to this publication can choose to resubmit an updated application that reflects the corrections and clarifications. The last application received and validated by Grants.gov by the deadline date will be the application that is reviewed and rated.

Introduction to the SuperNOFA—Appendix A [27035]

As discussed in this technical correction notice, HUD is moving the application deadline dates for the Housing Choice Voucher Family Self-Sufficiency and SHOP NOFAs. The new deadline date for the Housing Choice Voucher Family Self-Sufficiency NOFA will be July 16, 2008. The new deadline date for the SHOP NOFA will be July 18, 2008. HUD is, therefore, correcting the entries for the Housing Choice Voucher Family Self-Sufficiency Program and the SHOP NOFAs on Appendix A to reflect these changes.

Lead-Based Paint Hazard Control Grant Program, Lead Hazard Reduction Demonstration Grant Program, and Operation Lead Elimination Action Program [27159]

On page 27161, Section I.B.4., first column, and on page 27168, Section IV.F.2, first column, the deadline date for applicants to request a waiver of the 25 percent match requirement does not match the date posted on Grants.gov. HUD is correcting the deadline date to request a waiver in the SuperNOFA to match that listed on Grants.gov.

Lead Outreach Grant Program [27188]

On page 27189, Section II entitled “Eligibility Information”, third column, HUD inadvertently identified this section as section “II.” It should be section “III.”

On page 27190, section III entitled “application and submission information”, second column, HUD inadvertently identified this section as section “iii.” it should be section “iv.”

On page 27191, section v.a, third column, HUD incorrectly cross-referenced to information discussing threshold requirements and is deleting the incorrect cross-reference.

On page 27193, section V.A.3.e.(3), second column, HUD is correcting the requirement for including a separate budget and budget narrative when sub-grantees receive a portion of the award.

These corrections are also reflected in the instructions found on Grants.gov/Apply. Applicants must download the instructions to receive all forms and instructions related to this NOFA. Applicants are encouraged to read the instructions on Grants.gov/Apply prior to submitting your application in response to the Lead Outreach Program funding opportunity.

Housing Choice Voucher Family Self-Sufficiency (FSS) Program [27210]

On page 27211, paragraph F under “Overview Information”, first column, as discussed in this notice, HUD is moving the deadline date for applications to July 16, 2008.

On page 27213, section III.C.3.g. entitled “Affirmatively Furthering Fair Housing”, HUD is revising the timeline for applicants to submit their plans to affirmatively further fair housing (AFFH). Specifically, HUD is changing the date for applicants to submit this plan from prior to the application date to prior to the award of funding. This extension is required because implementation of an AFFH policy for the FSS program trigger a 45-day public comment period for the proposed AFFH policy followed by board approval of the policy prior to submission to HUD. The original application deadline did not allow sufficient time for PHAs to complete the steps required for approval and submission of their AFFH statements.

These corrections are also reflected in the instructions found on Grants.gov/Apply. Applicants must download the instructions to receive all forms and instructions related to this NOFA. Applicants are encouraged to read the instructions on Grants.gov/Apply prior to submitting your application in response to the Housing Choice Voucher Family Self-Sufficiency Program funding opportunity

Resident Opportunity and Self-Sufficiency Coordinators Program [27230]

On page 27230, section I.B.1, third column, HUD is clarifying for applicants how the number of occupied units should be counted in order to determine the number of positions for which an applicant may apply.

On page 27232, section II.C.1.a., third column, HUD is noting that more than one person may job-share a Service Coordinator position.

On page 27239, section V.B.2., first column, entitled “Selection Process for all Grant Categories and All Applicants,” HUD is clarifying that all Resident Association applicants, even those that apply as nonprofits, must have a contract administrator.

These corrections are also reflected in the instructions found on Grants.gov/Apply. Applicants must download the instructions to receive all forms and instructions related to this NOFA. Applicants are encouraged to read the instructions on Grants.gov/Apply prior to submitting your application in response to the Resident Opportunity and Self-Sufficiency Coordinators Program funding opportunity.

Self-Help Homeownership Opportunity Program [27250]

On page 27250, section F under “Overview Information,” first column, HUD is moving the deadline date for the SHOP NOFA to July 18, 2008.

On page 27253, section III.C.4.e., first column, HUD is clarifying the requirement for applicants to reduce energy costs.

On page 27254, section VI.C., second column entitled, “Submission Date and Time,” HUD is moving the deadline date for the SHOP NOFA to July 18, 2008.

On page 27256, under “Submission Requirements for Rating Factor 3,” section d., third column entitled “Cost Effective to the Homebuyer,” HUD is clarifying the requirement for applicants to disclose the contract sales price to the homebuyer and the appraised or market value of the home.

On page 27258, section V.A.5, second column entitled, “Rating Factor 5. Achieving Result and Program Evaluation (10 points),” HUD is clarifying that applicants should include actual or estimated costs for utilities and any applicable homeownership association fee when comparing total housing costs of new self-help units to previous rents.

On page 27258, section V.A.5, third column entitled “Submission Requirements for Rating Factor 5,” HUD is revising this section to advises applicants that HUD has developed and posted on Grants.gov a revised eLogic Model form that incorporates the revision to Rating Factor 5 that instructs applicants to include actual or estimated utility and other costs. HUD encourages applicants to download and use the revised eLogic Model.

These corrections are also reflected in the instructions found on Grants.gov/Apply. Applicants must download the instructions to receive all forms and instructions related to this NOFA. Applicants are encouraged to read the instructions on Grants.gov/Apply prior to submitting your application in response to the Self-Help Homeownership Opportunity Program funding opportunity.

Accordingly, in the May 12, 2008, Notice of HUD's FY2008 SuperNOFA for HUD's Discretionary Grant Programs, beginning at 73 FR 27032, the following corrections are made.

1. Introduction to the SuperNOFA—Appendix A Beginning at Page 27035

At page 27035, as discussed in this notice, HUD is moving the deadline date for the Housing Choice Voucher Family Self-Sufficiency Program to July 16, 2008. HUD is also moving the deadline date for the SHOP NOFA to July 18, 2008. As a result, the entries for the Housing Choice Voucher Family Self-Sufficiency Program and SHOP NOFA on Appendix A at page 27035 should read as follows:

Programs included in the FY2008 SuperNOFA | Approximate funding amounts available | Application deadline (All applications must be received and validated by Grants.gov no later than 11:59:59 p.m., eastern time on the application deadline date. See details in the General Section.)
Housing Choice Voucher Family Self-Sufficiency (FSS) Program | $49,000,000 | July 16, 2008.
CFDA No: 14,871
OMB Approval No.: 2577-0178
Self-Help Homeownership Opportunity Program (SHOP) | 26,500,000 | July 18, 2008.
CFDA No: 14,247
OMB Approval No.: 2506-0157

2. Lead-Based Paint Hazard Control Grant Program, Lead Hazard Reduction Demonstration Grant Program, and Operation Lead Elimination Action Program [27159]

On page 27161, Section I.B.4., first column, HUD is correcting this section to read as follows:

4. Applicants to the LHRD grant program may request a waiver of the 25 percent match requirement, if the applicant submits a request that meets HUD's criteria. See unit III.B.2, Eligibility Information, below. The request for the waiver of the match, with supporting narrative and documentation, must be submitted in accordance with unit IV.F.2, below, to be received no later than June 23, 2008.

On page 27168, section IV.F.2, first column, HUD is correcting this section to read as follows:

2. Lead Hazard Reduction Demonstration Grant Program match waiver. Lead Hazard Reduction Demonstration Grant Program applicants requesting a waiver from the 25 percent match requirement are required to submit a request by e-mail. LHRD match waiver requests must be submitted no later than 11:59 pm on June 23, 2008, and should be submitted to Jonnette Hawkins, Director, Programs Division, Office of Healthy Homes and Lead Hazard Control, at Jonnette.G.Hawkins@hud.gov. HUD will respond to the LHRD match waiver requests by e-mail no later than July 2, 2008, and, if a mailing address is provided in a request, by letter within 5 working days thereafter.

3. Lead Outreach Grant Program Beginning at Page 27188

On page 27189, Section II entitled “Eligibility Information”, third column, is corrected to read as follows:

III. Eligibility Information

On page 27190, section III entitled “Application and Submission Information”, second column, is corrected to read as follows:

IV. Application and Submission Information

On page 27191, section V.A, third column, HUD is correcting this paragraph to read as follows:

A. Criteria. Applications that meet all of the threshold requirements will be eligible to be scored and ranked, based on the total number of points allocated for each of the rating factors described in this NOFA. The application must receive a total score of at least 75 points to be considered for funding.

On page 27193, section V.A.3.e.(3), second column, HUD is correcting this section to read as follows:

(3) Include a separate budget (HUD-424-CBW) and budget narrative for any sub-grantee receiving more than 10 percent of total budget request.

4. Housing Choice Voucher Family Self-Sufficiency (FSS) Program beginning at page 27210

On page 27211, paragraph F under “Overview Information”, first column, is corrected to read as follows:

F. Dates: The application deadline date is July 16, 2008. Please see the General Section for timely receipt requirements.

On page 27213, section III.C.3.g. entitled “Affirmatively Furthering Fair Housing,” HUD is revising the second sentence of this paragraph to read as follows:

Prior to the award of funding under this NOFA, each applicant must submit to the public housing director in the applicant's local HUD field office an addendum to the applicant's HCV administrative plan that outlines reasonable steps the applicant will take to affirmatively further fair housing in its HCV FSS program and how it will maintain records of those steps and their impacts.

5. Resident Opportunity and Self-Sufficiency Coordinators Program Beginning at Page 27230

On page 27230, section I.B.1, third column, HUD is correcting this paragraph to read as follows:

1. For PHA and Tribe/TDHE applicants, the number of positions is determined by number of ACC units. PHAs must use the number of occupied conventional public housing units as of September 30, 2007. Tribes/TDHEs must use the number of units counted as Formula Current Assisted Stock for FY 2007 as defined in 24 CFR 1000.316. Tribes that have not previously received funds from the Department under the U.S. Housing Act of 1937 should count housing units under management that are owned and operated by the Tribe and that are identified in their housing inventory as of September 30, 2007. Applicants may apply for up to 3 Service Coordinators depending on the size and type of the applicant. Program ratio for number of eligible Service Coordinators is in the table above under “Award Amounts.”

On page 27232, section II.C.1.a., third column, correcting this section to read as follows:

a. Salaries and fringe benefits of one or more Service Coordinators. A part-time Service Coordinator may be retained where appropriate, however, the minimum units served remains the same. One or more PHAs may share a full-time position if that is deemed most appropriate for the applicant's program. More than one person may job-share a Service Coordinator position. Although the exact role for the SC shall be designed to meet the needs of the project's community, below is a listing of recommended functions for an SC:

On page 27239, section V.B.2., first column, entitled “Selection Process for all Grant Categories and All Applicants, HUD is correcting this section to read as follows:

2. Selection Process for All Grant Categories and All Applicants. All qualified applications will be awarded based on a lottery. Per statute, twenty-five percent (25%) of funds will be set aside for Resident Associations and all qualifying Resident Association applications will be funded first, up to 25 percent of the funding amount. Even if applying as non-profits, state, national, and other incorporated non-profit Resident Associations will be included in this set-aside. To be included in this Resident Association Category, you must indicate your status on the HUD-52768. If an applicant indicates that they are a resident council for the purposes of this lottery designation, they must also supply a contract administrator partner agreement, even if applying as a nonprofit applicant. If there are more qualified resident organizations than 25% of the available funding, there will be an initial lottery for all resident organizations, then the remaining resident organizations will be put together with the rest of the qualified applicants for a second general lottery.

6. Self-Help Homeownership Opportunity Program Beginning at Page 27250

On page 27250, section F under “Overview Information,” first column, HUD is moving the deadline date for the SHOP NOFA to July 18, 2008, therefore, this section is corrected to read as follows:

F. Dates: The application deadline date for electronic submission and validation in Grants.gov is July 18, 2008. Applications submitted through http://www.grants.gov must be received and validated by Grants.gov no later than 11:59:59 Eastern time on the application deadline date. The validation process may take up to 72 hours.

On page 27253, section III.C.4.e., first column, HUD is clarifying the requirement for applicants to reduce energy cost to read as follows.

e. Reduce Energy Costs. Applicants are required to take specific energy-saving actions. In the new construction of self-help housing, SHOP applicants must incorporate energy-efficiency measures in the design and construction of self-help housing units. All newly constructed units assisted with SHOP funds provided under this NOFA must qualify and receive Energy Star Certification by an independent Home Energy Rater (HER) upon completions and only Energy Star labeled products and appliances may be used in these units.

On page 27254, section VI.C., second column entitled, “Submission Date and Time,” HUD is moving the deadline date for the SHOP NOFA to July 18, 2008, therefore, this section is corrected to read as follows:

C. Submission Date and Time

The electronic application must be received and validated no later than 11:59:59 p.m. Eastern time by Grants.gov on the application deadline date, which is July 18, 2008. The validation process may take 24-48 hours. Applicants are advised to submit applications 72 hours in advance. By doing so, if your application fails validation and Grants.gov rejects the application, you have time to correct the noted problems prior to the deadline date. If an applicant is granted a waiver to the electronic application submission requirement, the application must be received at HUD Headquarters by the application deadline date (see General Section).

On page 27256, under “Submission Requirements for Rating Factor 3,” section d., third column entitled “Cost Effective to the Homebuyer,” HUD is clarifying the requirement for applicants to disclose the contract sales price to the homebuyer and the appraised or market value of the home to read as follows:

d. Cost Effective to the Homebuyer (7 points). State how the sales price for SHOP-assisted units is established (provide a table outlining separate costs for land purchase and infrastructure improvements paid by the affiliate; land and infrastructure improvements charged to the homebuyer; construction and project-related soft costs, such as architectural, engineering and related professional services; and any other costs charged to the homebuyer including 2nd or additional mortgages that must be repaid by the homebuyer upon sale of the property). You must include in the table the contract sales price to the homebuyer and the appraised or market value. You must demonstrate the extent to which the investment of SHOP funds, the contribution of sweat equity and volunteer labor, donations (e.g., land or building materials), in-kind contributions, and financing subsidies, further reduce the sales price to the homebuyer below the appraised value of the house or market value of comparable housing in the neighborhood. This must be demonstrated for homebuyers receiving both USDA and non-USDA construction assistance. Applicants showing a larger reduction of the sales price to the homebuyer from the appraised or market value as a result of the use of the SHOP funds for costs that are not charged to the homebuyer, the SHOP homebuyer's sweat equity, volunteer labor, and other contributions and subsidies not repaid by the homebuyer will receive a higher score.

On page 27258, section V.A.5, second column entitled, “Rating Factor 5. Achieving Result and Program Evaluation (10 points),” HUD is revising the first paragraph of this section to read as follows:

5. Rating Factor 5. Achieving Results and Program Evaluation (10 points)

This factor emphasizes HUD's determination to track whether applicants meet commitments made in their applications. HUD requires SHOP applicants to develop an effective, quantifiable, outcome-oriented evaluation plan for measuring performance and determining whether goals have been met using the Master Logic Model for SHOP, which can be found in the download instructions portion at http://www.grants.gov/applicants/apply_for_grants.jsp. Applicants must clearly identify the “Outputs” and “Outcomes” to be achieved and measured. Completed newly constructed or rehabilitated self-help housing units are outputs. Outcomes are benefits accruing to the families and/or communities during or after participation in SHOP. Examples of outcomes include increasing the homeownership rate in a neighborhood or among low-income families by a certain percentage, increasing the property tax base by a certain value, or increasing housing stability (e.g., increasing assets of the low-income homebuyer households by creating household equity or reducing total housing costs compared to rents that SHOP participants previously paid. When comparing the total housing costs of new self-help housing units to rents previously paid by homebuyers, applicants should include actual or estimated costs of utilities for the rental units and any applicable homeowner association fees and estimated utilities for the new housing units.) during and beyond the grantee's period for reporting on property completions. See Reporting in section VI.C. In addition, applicants must establish interim benchmarks for which outputs lead to the ultimate achievement of outcomes. “Interim benchmarks” are steps or stages in your activities that, if reached or completed successfully, will result in outputs for your program. Examples of interim benchmarks for SHOP include acquisition of land, completion of infrastructure, identification of income-qualified homebuyers, obtaining building permits, or securing construction materials and equipment.

On page 27258, section V.A.5, third column entitled “Submission Requirements for Rating Factor 5,” HUD is revising this section to read as follows:

Submission Requirements for Rating Factor 5

Program Evaluation Plan and Logic Model (10 Points). The FY 2008 application requires submission of a written program evaluation plan and a completed eLogicModel ™. The eLogicModel ™ allows the applicant to select from drop down menus the elements of their program that are captured in the Logic Model. Instructions for the eLogic Model ™ are found in Tab 1 of the form HUD-96011 found in the instructions download to your electronic application. The Master Logic Model listing also identifies the unit of measure that HUD will collect for the output(s) and outcome(s) selected. Applicants must identify a unit of measure and establish a goal for each output and outcome.

HUD has designated mandatory outputs and outcomes that must be addressed by the applicant. For both “Housing Constructed” and “Housing Rehabilitated,” applicants must address the following five mandatory Outputs: (1) Sweat Equity (hours); (2) Volunteer Labor (hours); (3) Design incorporates energy efficiency measures and Energy Star Standards (units); (4) Policy Priority—Design incorporates universal design (units); and (5) Policy Priority—Design incorporates visitability standards (units).

For both “New construction” and “Rehabilitated units,” applicants must address the following four mandatory Outcomes: (1) one of the three sets of “average reduced sales price” from 1-10 % (dollars and units) or from 11-30% (dollars and units) or greater than 30% (dollars and units)—each set counts as two outcomes; (2) Increased housing stability—average decreased housing costs (dollars); and (3) Increased housing stability—average increased assets in savings (dollars).

HUD has revised the eLogic Model ™ form HUD-96011, Tab 9 labeled “Outcomes,” Column 5, Achievement Outcomes Goals and Indicator. Instead of “percentage,” the double asterisks (**) footnote should state: “This is the average dollars of reduced housing costs to the families or increased assets to the families.” HUD is also clarifying that for the projected outcome “Increased housing stability—Average increased assets in savings,” applicants are not asked to report on homebuyers' existing savings. This outcome requires applicants to measure the equity in the units at the time properties are completed and families close on their units. This equity increases any other assets in savings homebuyers may have at the time of closing.

If an applicant's program consists of new construction or rehabilitation, but not both, the five mandatory outputs and four outcomes applicable to the program must be selected. If an applicant's program includes both new construction and rehabilitation, applicant must address all mandatory outputs/outcomes. However, applicants are expected to select additional outputs and outcomes identified in their work plan. Further, interim benchmarks, program indicators, outputs, and outcomes must be quantifiable.

You must summarize your program evaluation plan that measures your own program performance. Your plan must measure the performance of individual consortium members and affiliates, including the standards and measurement methods, and the steps you have in place or how you plan to make adjustments if you begin to fall short of established benchmarks and time frames. Applicants that include both mandatory and optional outputs and outcomes and interim benchmarks, and prepare a written evaluation plan that meets the specified content requirements will receive a higher score. HUD will rate the eLogicModel ™ submission based upon the matrix contained in Attachment 1 to the General Section.

III. Guidance To Address Grants.gov SF-424 Issue

The Department has been informed that applicants have experienced trouble completing the Application for Federal Assistance SF-424 electronic form in the Grants.gov funding opportunity application package. Specifically, the Department has been alerted that if an applicant checks “No” to question number 20 (Is the Applicant Delinquent On Any Federal Debt?) and inadvertently places his or her cursor and clicks on the space on page 4 entitled “Applicant Federal Debt Delinquency Explanation,” the SF-424 will make the space a mandatory field that is yellow in color. The SF-424 will not allow applicants to enter text in the mandatory field. The reason for this behavior is that Adobe Reader 8.1.1 and 8.1.2 opens with a default with the Text Select Tool pointer (which look like a finger). This default was intended by Adobe Reader. The issue that this causes for Grants.gov forms is that the Text Select Tool, if clicked in a read-only form field will make the field mandatory without any means to fill in text or change it back to read only. As a result, HUD is advising applicants to avoid placing their cursors in the explanation space provided on the form if they check the response to question 20 as “No.”

If an applicant inadvertently triggers the creation of the mandatory field, the way to clear the form of the problem is to go back to question 20, click the “Yes” box and then click the “No” box. This brings the form back to the original state and eliminates the explanation field from being a mandatory field. An alternative way to address the issue is to go to the menu bar, select “Tools,” select from the drop-down bar “Select and Zoom” and then select “Hand Tool.” The Grants.gov help desk has been alerted to this issue and can help applicants address this issue.

In addition, applicants are alerted that the form contains edit checks. To avoid a rejection notice, please make sure that dates provided in response to question 17, “Proposed Project Start and end date,” are internally consistent and that the project does not end prior to its proposed start date. If an applicant mistakenly provides a project end date that is prior to the start date, the package will be rejected by Grants.gov due to an internal inconsistency.

HUD again strongly advises applicants to submit their application to Grants.gov 72 hours in advance to the deadline date so that if they receive a rejection error, there is sufficient time for the applicant to cure the problem and resubmit in time to meet the deadline date requirements.

Dated: June 9, 2008.
Keith A. Nelson,
Assistant Secretary for Administration.

[FR Doc. E8-13285 Filed 6-11-08; 8:45 am]

BILLING CODE 4210-67-P